DEPARTMENT OF ENERGY

Federal Energy Regulatory Commission

Combined Notice of Filings #1

Take notice that the Commission received the following electric rate filings:

Docket Numbers: ER18-1442-001.

Applicants: Citizens Sycamore-Penasquitos Transmission.

Description: Tariff Amendment: Response to Deficiency Letter to be effective 12/31/9998.

Filed Date: 7/18/18.

Accession Number: 20180718-5047.

Comments Due: 5 p.m. ET 8/8/18.

Docket Numbers: ER18-1777-001.

Applicants: Meadowlark Wind I LLC.

Description: Tariff Amendment: Amendment to Market-based Rate Filing to be effective 8/12/2018.

Filed Date: 7/17/18.

Accession Number: 20180717-5151.

Comments Due: 5 p.m. ET 8/7/18.

Docket Numbers: ER18-2028-001.

Applicants: PJM Interconnection, L.L.C.

Description: Tariff Amendment: Supplement to revisions to OATT Sch 12—Appx A (Dominion) re: b2373 to be effective 6/14/2018.

Filed Date: 7/18/18.

Accession Number: 20180718-5094.

Comments Due: 5 p.m. ET 8/8/18.

Docket Numbers: ER18-2031-000.

Applicants: HUDSON SHORE ENERGY PARTNERS LLC.

Description: Baseline eTariff Filing: Application For Market Based Rate to be effective 7/18/2018.

Filed Date: 7/17/18.

Accession Number: 20180717-5127.

Comments Due: 5 p.m. ET 8/7/18.

Docket Numbers: ER18-2032-000.

Applicants: Wildcat Ranch Wind Project, LLC.

Description: Baseline eTariff Filing: Wildcat Ranch Wind Project, LLC Application for MBR Authority to be effective 10/1/2018.

Filed Date: 7/17/18.

Accession Number: 20180717-5128.

Comments Due: 5 p.m. ET 8/7/18.

Docket Numbers: ER18-2033-000.

Applicants: Saavi Energy Solutions, LLC.

Description: § 205(d) Rate Filing: Notice of Succession to Market-Based Rate Tariff to be effective 7/18/2018.

Filed Date: 7/17/18.

Accession Number: 20180717-5135.

Comments Due: 5 p.m. ET 8/7/18.

Docket Numbers: ER18-2034-000.

Applicants: California Independent System Operator Corporation.

Description: § 205(d) Rate Filing: 2018-07-17 Congestion Revenue Rights Auction Efficiency Track 1B Amendment to be effective 9/24/2018.

Filed Date: 7/17/18.

Accession Number: 20180717-5150.

Comments Due: 5 p.m. ET 8/7/18.

Docket Numbers: ER18-2035-000.

Applicants: Michigan Electric Transmission Company, LLC.

Description: § 205(d) Rate Filing: Filing of Amended and Restated Service Agreement to be effective 9/17/2018.

Filed Date: 7/17/18.

Accession Number: 20180717-5172.

Comments Due: 5 p.m. ET 8/7/18.

Take notice that the Commission received the following qualifying facility filings:

Docket Numbers: QF18-1654-000.

Applicants: Sappi Cloquet LLC.

Description: Form 556 of Sappi Cloquet LLC [TG5].

Filed Date: 7/17/18.

Accession Number: 20180717-5169.

Comments Due: Non-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 18, 2018.
Nathaniel J. Davis, Sr.,
Deputy Secretary.

[FR Doc. 2018-15785 Filed 7-23-18; 8:45 am]

BILLING CODE 6717-01-P